DEPARTMENT OF HEALTH AND HUMAN SERVICES

Public Health Service

National Toxicology Program (NTP); National Institute of Environmental Health Sciences (NIEHS)

The NTP Center for the Evaluation of Risks to Human Reproduction (CERHR) Expert Panel Report on the Developmental and Reproductive Toxicity of Methanol: Notice of Availability and Request for Public Comments

Summary

Notice is hereby given of the availability of the Expert Panel Report on the Developmental and Reproductive Toxicity of Methanol. This report includes the summaries and conclusions of the expert panel's evaluation of the scientific data for potential reproductive and/or developmental hazards associated with exposure to methanol. The CERHR held this expert panel meeting in October 2001. CERHR is seeking public comment on these reports and additional information about recent, relevant toxicology or human exposure studies.

Availability of Reports

The expert panel report is available electronically on the CERHR web site (http://cerhr.niehs.nih.gov) and in printed copy by contacting the CERHR (PO Box 12233, MD EC-32, Research Triangle Park, NC 27709; telephone: (919) 541-3455; fax: (919) 316-4511; or e-mail: shelby@niehs.nih.gov).

Request for Public Comments

The CERHR invites public comments on the expert panel report and input regarding any recent, relevant toxicology or human exposure studies. The CERHR asks that all comments and other information be submitted to the CERHR at the address above by July 8, 2002.

All public comments received by this date will be reviewed and included in the final NTP-CERHR report on methanol to be prepared by NTP staff. The NTP-CERHR report will include the expert panel report, public comments received on the report, and an NTP brief. The brief will provide the NTP's interpretation of the potential for adverse reproductive and/or developmental effects to humans from exposure to methanol. The NTP will transmit the NTP-CERHR report to the appropriate federal and state agencies, the public, and the scientific community.

Background

A 12-member expert panel composed of scientists from state and federal governments, universities, and industry conducted an evaluation of the reproductive and developmental toxicities of methanol (Federal Register Vol. 66, No. 136, pp. 37047-37048, July 16, 2001). Public deliberations by the panel took place October 15-17, 2001 at the Radisson Hotel Old Town in Alexandria, Virginia. Following the October meeting, the draft expert panel report was revised to incorporate the panel's conclusions and subsequently reviewed by the Methanol Expert Panel, NTP scientists, and CERHR personnel.

Methanol (CASRN: 67-56-1) is a commercially important, high production volume chemical (2.2 billion gallons, US production, 1998), with high potential for occupational, consumer, and environmental exposure. Methanol is used in chemical syntheses and as an industrial solvent. It is found in a variety of consumer products such as paints, antifreeze, cleaning solutions, and adhesives and is a by-product of sewage treatment, fermentation, and paper production. Methanol is used in racing car fuels, and there is the potential for future, expanded use of methanol as a vehicle fuel or fuel additive.

Additional Information About CERHR

The NTP and the NIEHS established the NTP CERHR in June 1998 (Federal Register Vol. 63, No. 239, p. 68782, December 1998). The purpose of the CERHR is to provide scientifically based, uniform assessments of the potential for adverse effects on reproduction and development caused by agents to which humans may be exposed. Further information on the CERHR's chemical review process including how to nominate chemicals for evaluation and scientists for the expert registry can be obtained from its web site (http://cerhr.niehs.nih.gov) or by contacting the CERHR directly (see address above). The CERHR also serves as a resource for information on various environmental exposures and their potential to affect pregnancy and child development. The web site has information about common concerns related to fertility, pregnancy and the health of unborn children and links to other resources for information about public health.

Dated: May 1, 2002.
Samuel H. Wilson,
Deputy Director, National Institute of Environmental Health Sciences.

[FR Doc. 02-11522 Filed 5-7-02; 8:45 am]

BILLING CODE 4140-01-P